INTERNATIONAL TRADE COMMISSION

[Investigation Nos. 701-TA-415 and 731-TA-933 and 934 (Second Review)]

Polyethylene Terephthalate Film, Sheet, and Strip From India and Taiwan

Determinations

On the basis of the record ¹ developed in the subject five-year review, the United States International Trade Commission (Commission) determines, pursuant to section 751(c) of the Tariff Act of 1930 (19 U.S.C. 1675(c)), that revocation of the countervailing duty order on polyethylene terephthalate film, sheet, and strip (“PET film”) from India and the antidumping duty orders on PET film from India and Taiwan would be likely to lead to continuation or recurrence of material injury to an industry in the United States within a reasonably foreseeable time.

¹ The record is defined in sec. 207.2(f) of the Commission's Rules of Practice and Procedure (19 CFR 207.2(f)).

Background

The Commission instituted these reviews on April 1, 2013 (78 FR 19524) and determined on July 5, 2013 that it would conduct full reviews (78 FR 42105, July 15, 2013). Notice of the scheduling of the Commission's reviews and of a public hearing to be held in connection therewith was given by posting copies of the notice in the Office of the Secretary, U.S. International Trade Commission, Washington, DC, and by publishing the notice in the Federal Register on January 16, 2014 (79 FR 2883). The hearing was cancelled on May 14, 2014 (79 FR 28949, May 20, 2014).

The Commission completed and filed its determinations in these reviews on June 27, 2014. The views of the Commission are contained in USITC Publication 4479 (July 2014), entitled Polyethylene Terephthalate Film, Sheet, and Strip from India and Taiwan: Investigation Nos. 701-TA-415 and 731-TA-933 and 934 (Second Review).

By order of the Commission.
Issued: July 16, 2014.
Lisa R. Barton,
Secretary to the Commission.

[FR Doc. 2014-17158 Filed 7-21-14; 8:45 am]

BILLING CODE 7020-02-P